DEPARTMENT OF COMMERCE

International Trade Administration

[C-570-153, C-533-918]

Certain Paper Shopping Bags From the People's Republic of China and India: Countervailing Duty Orders; Correction

AGENCY: Enforcement and Compliance, International Trade Administration, Department of Commerce.

ACTION: Notice; correction

SUMMARY: The U.S. Department of Commerce (Commerce) published notice in the Federal Register of July 18, 2024, in which Commerce issued the countervailing duty (CVD) orders on certain paper shopping bags (paper bags) from the People's Republic of China (China) and India. This notice incorrectly listed the all-others rate for the China CVD order as 41.46 percent in the section entitled “Estimated Countervailable Subsidy Rates.”

FOR FURTHER INFORMATION CONTACT: Robert Copyak, AD/CVD Operations, Office IX, Enforcement and Compliance, International Trade Administration, U.S. Department of Commerce, 1401 Constitution Avenue NW, Washington, DC 20230; telephone: (202) 482-3642.

SUPPLEMENTARY INFORMATION:

Background

On July 18, 2024, Commerce published in the Federal Register its CVD orders on paper bags from China and India.¹ In this notice, Commerce incorrectly listed the all-others rate for the China CVD order as 41.46 percent in the section entitled “Estimated Countervailable Subsidy Rates.” ²

¹ See Certain Paper Shopping Bags From the People's Republic of China: Countervailing Duty Orders, 89 FR 58331 (July 18, 2024).

² See Certain Paper Shopping Bags from the People's Republic of China: Final Affirmative Countervailing Duty Determination and Final Affirmative Determination of Critical Circumstances, 89 FR 45829 (May 24, 2024).

Correction

In the Federal Register of July 18, 2024, in FR Doc 2024-15747, on page 58332, in the second column, in the section entitled “Estimated Countervailable Subsidy Rates,” correct the all-others rate shown in the table for China to be 41.56 percent.

Notification to Interested Parties

This notice is issued and published in accordance with sections 706(a) of the Tariff Act of 1930, as amended, and 19 CFR 351.211(b).

Dated: July 25, 2024.
Ryan Majerus,
Deputy Assistant Secretary for Policy and Negotiations, performing the non-exclusive functions and duties of the Assistant Secretary for Enforcement and Compliance.

[FR Doc. 2024-16890 Filed 7-31-24; 8:45 am]

BILLING CODE 3510-DS-P